DEPARTMENT OF TRANSPORTATION

Federal Railroad Administration

Petition for Waiver of Compliance

In accordance with part 211 of Title 49 Code of Federal Regulations (CFR), notice is hereby given that the Federal Railroad Administration (FRA) received a request for a waiver of compliance with certain requirements of its safety standards. The individual petition is described below, including the party seeking relief, the regulatory provisions involved, the nature of the relief being requested and the petitioner's arguments in favor of relief.

Great Miami & Scioto Railway Company

[Docket Number FRA-2000-7349]

The Great Miami & Scioto Railway Company owns and operates a caboose, number GMRY 783, which was built in 1954. This caboose is not used in regular service, but only on a limited basis to transport railroad officials and private persons for typical railroad business purposes. The caboose will primarily be stored on a live rail siding for display. The car operates on the Great Miami & Scioto Railway in Ross, Jackson, and Vinton Counties in Southeast Ohio, a rural/suburban area. The current window glazing in this caboose has become frosted and requires replacement. The GMRY requests relief from the requirements of Title 49 Code of Federal Regulations (CFR) § 223.13 Requirements for existing cabooses due to the infrequent use of the caboose, the planned usage for private party transportation, and the cost of installing compliant glazing. The GMRY proposes to install an automotive type safety glazing as an alternative to the FRA Types I & II.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2000-7349) and must be submitted to: Docket Clerk, DOT Central Docket Management Facility, Room P1-401, 400 Seventh Street, SW, Washington, DC 20590-0001. Communications received within 45 days of the date will be considered as far as practical. All written communications concerning these proceedings are available for examination during regular business hours (9 a.m.—5 p.m.) at the above facility. All documents in the public docket are also available for inspection and copying on the internet at the facility's Web site at http://dms.dot.gov.

Issued in Washington, DC on August 15, 2001.
Grady C. Cothen, Jr.,
Deputy Associate Administrator for Safety Standards and Program Development.

[FR Doc. 01-21079 Filed 8-20-01; 8:45 am]

BILLING CODE 4910-06-P